DEPARTMENT OF COMMERCE

National Oceanic and Atmospheric Administration

RIN 0648-XE97

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permit 10017 to California Department of Parks and Recreation (CDPR) in Half Moon Bay, California.

ADDRESSES: The application, permit, and related documents are available for review by appointment at: Protected Resources Division, NMFS, 777 Sonoma Avenue, Room 315, Santa Rosa, CA 95404 (ph: 707-575-6097, fax: 707-578-3435, e-mail at: Jeffrey.Jahn@noaa.gov)

FOR FURTHER INFORMATION CONTACT:

Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhynchus kisutch) and threatened Central California Coast steelhead (O. mykiss).

Permit Issued

A notice of the receipt of an application for a scientific research permit (10017) was published in the Federal Register on July 23, 2007 (72 FR 40119). Permit 10017 was issued to CDPR on November 27, 2007.

Permit 10017 authorizes: (1) unintentional non-lethal capture (by beach seine and dipnet), and release of adult Central California Coast coho salmon and adult Central California Coast steelhead; (2) capture (by backpack electrofishing, beach seine, dip-net, and fyke-net trap), handling, and release of juvenile Central California Coast coho salmon; (3) capture (by backpack electrofishing, beach seine, dip-net, and fyke-net trap), handling, marking (using fin-clips, PIT tags, or VIE tags), and release of juvenile Central California Coast steelhead; (4) capture (by beach seine or dip-net), lethal sacrifice, and collection of sick or injured juvenile Central California Coast steelhead; and (5) capture (by beach seine or dip-net) and collection of previously dead juvenile Central California Coast steelhead.

Permit 10017 authorizes unintentional lethal take of: juvenile Central California Coast steelhead not to exceed 2 percent of juvenile Central California Coast steelhead captured. Permit 10017 does not authorize any lethal take of adult Central California Coast coho salmon and adult Central California Coast steelhead. Permit 10017 authorizes intentional lethal take of five juvenile Central California Coast steelhead that appear to be sick or injured (appear lethargic, are unresponsive to disturbance, or swim rapidly in a circular or erratic manner) as a result of fish die-off events in Pescadero Lagoon, San Mateo County, California.

Permit 10017 is for research to be conducted in the lagoons and streams of San Gregorio Creek, Pomponio Creek, and Pescadero Creek in San Mateo County, California. The purpose of the research is to provide ESA-listed salmonid population, distribution, and habitat assessment data which will: (1) contribute to the general body of scientific knowledge pertaining to ESA-listed salmonids; (2) assess the effects of chronic hypoxia and annual fish die-off events on the status of juvenile ESA-listed salmonid populations and habitat use in Pescadero Lagoon; (3) guide habitat restoration and management actions to prevent future fish die-off events in Pescadero Lagoon; and (4) evaluate the effects of wetland restoration and altered sandbar regimes on juvenile ESA-listed salmonid populations and lagoon habitat to guide future restoration and management activities. Permit 10017 expires on November 30, 2012.

Dated: January 10, 2008.
Angela Somma,
Chief, Endangered Species Division, Office of Protected Resources, National Marine Fisheries Service.

[FR Doc. E8-553 Filed 1-14-08; 8:45 am]

BILLING CODE 3510-22-S